FEDERAL RESERVE SYSTEM

12 CFR Part 246

[Regulation TT; Docket No. R-1683]

RIN 7100-AF63

Supervision and Regulation Assessments of Fees for Bank Holding Companies and Savings and Loan Holding Companies With Total Consolidated Assets of $100 Billion or More

AGENCY: Board of Governors of the Federal Reserve System (Board).

ACTION: Notice of proposed rule; correction.

SUMMARY: The Federal Register document of November 12, 2019 proposing changes to the Board's Regulation TT provided an expired comment period end date. This document corrects that error.

DATES: Comments must be received on or before January 9, 2020.

SUPPLEMENTARY INFORMATION: This document corrects the comment period end date in 84 FR 60944 published on November 12, 2019 to read:

Correction

DATES: Comments must be received on or before January 9, 2020.

Board of Governors of the Federal Reserve System, November 12, 2019.
Ann Misback,
Secretary of the Board.

[FR Doc. 2019-24959 Filed 11-18-19; 8:45 am]

BILLING CODE P